NUCLEAR REGULATORY COMMISSION

[NRC-2011-0011]

Criteria and Design Features for Inspection of Water-Control Structures Associated With Nuclear Power Plants

AGENCY: Nuclear Regulatory Commission.

ACTION: Regulatory Guide; issuance.

SUMMARY: The U.S. Nuclear Regulatory Commission (NRC) is issuing Revision 2 of Regulatory Guide (RG) 1.127, “Criteria and Design Features for Inspection of Water-Control Structures Associated with Nuclear Power Plants.” This RG describes a method that the staff of the NRC considers acceptable for designing water-control structures (e.g., dams, slopes, canals, reservoirs, and associated conveyance facilities) such that periodic inspections may be performed. In addition, this guide describes an acceptable inspection and monitoring program for water-control structures. Water-control structures include those used in the emergency cooling water system and those relied upon for flood protection.

DATES: Revision 2 to RG 1.127 is available on February 18, 2016.

ADDRESSES: Please refer to Docket ID NRC-2011-0011 when contacting the NRC about the availability of information regarding this document. You may obtain publically-available information related to this document using the following methods:

• Federal Rulemaking Web site: Go to http://www.regulations.gov and search for Docket ID NRC-2011-0011. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of RG 1.127, is available in ADAMS under Accession No. ML15107A412. The regulatory analysis may be found in ADAMS under Accession No. ML093060317.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Robert Pettis, Office of Nuclear Reactor Regulation, telephone: 301-415-3214, email: Robert.Pettis@nrc.gov, Kenneth Karwoski, Office of Nuclear Reactor Regulation, telephone: 301-415-2752, email: Kenneth.Karwoski@nrc.gov, or Mark Orr, Office of Nuclear Regulatory Research, telephone: 301-415-6003, email: Mark.Orr@nrc.gov. All are on the staff of the U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 2 of RG 1.127 was issued with a temporary identification as Draft Regulatory Guide, DG-1245. The RG is being updated to provide licensees and applicants with the most current guidance and to help ensure that applicants and licensees are able to demonstrate compliance with the applicable regulations.

II. Additional Information

DG-1245 was published in the Federal Register on January 23, 2015 (80 FR 3661) for a 60-day public comment period. The public comment period closed on March 24, 2015. Public comments on DG-1245 and the staff responses to the public comments are available under ADAMS Accession No. ML15107A414.

III. Congressional Review Act

This RG is a rule as defined in the Congressional Review Act (5 U.S.C. 801-808). However, the Office of Management and Budget has not found it to be a major rule as defined in the Congressional Review Act.

IV. Backfitting and Issue Finality

This RG does not constitute backfitting as defined in section 50.109 of title 10 of the Code of Federal Regulations (10 CFR) (the Backfit Rule), and is not otherwise inconsistent with the issue finality provisions in 10 CFR part 52, “Licenses, Certifications, and Approvals for Nuclear Power Plants.” This RG provides guidance on one possible means for meeting NRC's regulatory requirements for developing appropriate Inservice Inspection Programs (ISI) and surveillance programs for dams, slopes, canals, and other water-control structures associated with emergency cooling and flood protection water systems as required by General Design Criterion 45, “Inspection of Cooling Water System,” of Appendix A, “General Design Criteria for Nuclear Power Plants,” to 10 CFR part 50, “Domestic Licensing of Production and Utilization Facilities.”

Existing licensees and applicants for standard design certifications will not be required to comply with the new positions set forth in this RG, unless the licensee or standard design certification applicant seeks a voluntary change to its licensing basis with respect to ISI or surveillance programs for water-control structures, and where the NRC determines that the safety review must include consideration of the ISI or surveillance program. Further information on the staff's use of the RG is contained in the RG under Section D. Implementation.

Dated at Rockville, Maryland, this 11th day of February, 2016.
For the Nuclear Regulatory Commission.
Thomas H. Boyce,
Chief, Regulatory Guidance and Generic Issues Branch, Division of Engineering, Office of Nuclear Regulatory Research.

[FR Doc. 2016-03346 Filed 2-17-16; 8:45 am]

BILLING CODE 7590-01-P